DEPARTMENT OF ENERGY

Federal Energy Regulatory Commission

Combined Notice of Filings

Take notice that the Commission has received the following Natural Gas Pipeline Rate and Refund Report filings:

Filings Instituting Proceedings

Docket Numbers: PR22-61-000.

Applicants: Hope Gas, Inc.

Description: § 284.123(g) Rate Filing: HGI—Trade Name Removal to be effective 9/1/2022.

Filed Date: 9/1/22.

Accession Number: 20220901-5014.

Comment Date: 5 p.m. ET 9/22/22.

284.123(g) Protests Due: 5 p.m. ET 10/31/22.

Docket Numbers: RP22-1190-000.

Applicants: Gulf South Pipeline Company, LLC.

Description: § 4(d) Rate Filing: Cap Rel Neg Rate Agmt (Southern 49811 to Spotlight 55573) to be effective 9/1/2022.

Filed Date: 9/1/22.

Accession Number: 20220901-5018.

Comment Date: 5 p.m. ET 9/13/22.

Docket Numbers: RP22-1191-000.

Applicants: Gulf South Pipeline Company, LLC.

Description: § 4(d) Rate Filing: Cap Rel Neg Rate Agmt (Osaka 46429 to Spotlight 55579) to be effective 9/1/2022.

Filed Date: 9/1/22.

Accession Number: 20220901-5019.

Comment Date: 5 p.m. ET 9/13/22.

Docket Numbers: RP22-1192-000.

Applicants: Texas Gas Transmission, LLC.

Description: § 4(d) Rate Filing: Neg Rate Agmt Filing (TVA 39143, CP21-19) to be effective 9/1/2022.

Filed Date: 9/1/22.

Accession Number: 20220901-5020.

Comment Date: 5 p.m. ET 9/13/22.

Docket Numbers: RP22-1193-000.

Applicants: Texas Gas Transmission, LLC.

Description: § 4(d) Rate Filing: Cap Rel Neg Rate Agmts (JayBee 34446, 34447 to Spotlight 53846, MacQuarie 53848) to be effective 9/1/2022.

Filed Date: 9/1/22.

Accession Number: 20220901-5023.

Comment Date: 5 p.m. ET 9/13/22.

Docket Numbers: RP22-1194-000.

Applicants: White River Hub, LLC.

Description: § 4(d) Rate Filing: Section 5 Revision to be effective 10/1/2022.

Filed Date: 9/1/22.

Accession Number: 20220901-5028.

Comment Date: 5 p.m. ET 9/13/22.

Docket Numbers: RP22-1195-000.

Applicants: Rover Pipeline LLC.

Description: § 4(d) Rate Filing: Summary of Negotiated Rate Capacity Release Agreements on 9-1-22 to be effective 9/1/2022.

Filed Date: 9/1/22.

Accession Number: 20220901-5033.

Comment Date: 5 p.m. ET 9/13/22.

Docket Numbers: RP22-1196-000.

Applicants: Columbia Gulf Transmission, LLC.

Description: § 4(d) Rate Filing: LAXP—Neg Rate NC Filing—SPL 214599 to be effective 10/1/2022.

Filed Date: 9/1/22.

Accession Number: 20220901-5100.

Comment Date: 5 p.m. ET 9/13/22.

Docket Numbers: RP22-1197-000.

Applicants: Hardy Storage Company, LLC.

Description: § 4(d) Rate Filing: Non-Conforming Agreement Housekeeping to be effective 10/1/2022.

Filed Date: 9/1/22.

Accession Number: 20220901-5102.

Comment Date: 5 p.m. ET 9/13/22.

Docket Numbers: RP22-1198-000.

Applicants: El Paso Natural Gas Company, L.L.C.

Description: § 4(d) Rate Filing: Negotiated Rate Agreements Filing (EcoEnergy_Radiate) to be effective 9/1/2022.

Filed Date: 9/1/22.

Accession Number: 20220901-5137.

Comment Date: 5 p.m. ET 9/13/22.

Docket Numbers: RP22-1199-000.

Applicants: Texas Eastern Transmission, LP.

Description: § 4(d) Rate Filing: Negotiated Rates—Con Ed to Dir En Mt 8978155 to be effective 9/1/2022.

Filed Date: 9/1/22.

Accession Number: 20220901-5138.

Comment Date: 5 p.m. ET 9/13/22.

Docket Numbers: RP22-1200-000.

Applicants: Columbia Gulf Transmission, LLC.

Description: Compliance filing: CGT Cashout Report 2022 to be effective N/A.

Filed Date: 9/1/22.

Accession Number: 20220901-5154.

Comment Date: 5 p.m. ET 9/13/22.

Docket Numbers: RP22-1201-000.

Applicants: Dauphin Island Gathering Partners.

Description: § 4(d) Rate Filing: Negotiated Rate Filing 9-1-2022 to be effective 9/1/2022.

Filed Date: 9/1/22.

Accession Number: 20220901-5228.

Comment Date: 5 p.m. ET 9/13/22.

Docket Numbers: RP22-1202-000.

Applicants: Equitrans, L.P.

Description: § 4(d) Rate Filing: Negotiated Rate Capacity Release Agreements—9/1/2022 to be effective 9/1/2022.

Filed Date: 9/1/22.

Accession Number: 20220901-5263.

Comment Date: 5 p.m. ET 9/13/22.

Docket Numbers: RP22-1203-000.

Applicants: Gulf South Pipeline Company, LLC.

Description: § 4(d) Rate Filing: Housekeeping Filing to be effective 10/3/2022 to be effective 10/3/2022.

Filed Date: 9/2/22.

Accession Number: 20220902-5016.

Comment Date: 5 p.m. ET 9/14/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP11-2473-000.

Applicants: Gulf South Pipeline Company, LP.

Description: Refund Report: Gulf South Pipeline Company, LLC submits tariff filing per 154.501: 2022 Annual CICO Filing to be effective N/A.

Filed Date: 9/1/22.

Accession Number: 20220901-5017.

Comment Date: 5 p.m. ET 9/13/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 2, 2022.
Debbie-Anne A. Reese,
Deputy Secretary.

[FR Doc. 2022-19479 Filed 9-8-22; 8:45 am]

BILLING CODE 6717-01-P